DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-0361.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Government Performance and Results Act (GPRA) Client/Participant Outcomes Measure—(OMB No. 0930-0208)—Revision

SAMHSA is requesting approval to modify its existing CSAT Client-level GPRA instrument by removing 40 questions and adding 41 questions to its existing CSAT Client-level GPRA instrument resulting in a net addition of 1 question. Currently, the information collected from this instrument is entered and stored in SAMSHA's Performance Accountability and Reporting System, which is a real-time, performance management system that captures information on the substance abuse treatment and mental health services delivered in the United States. Continued approval of this information collection will allow SAMHSA to continue to meet Government Performance and Results Modernization Act of 2010 reporting requirements that quantify the effects and accomplishments of its discretionary grant programs, which are consistent with OMB guidance.

SAMHSA will use the data for annual reporting required by GPRA and comparing baseline with discharge and follow-up data. GPRA requires that SAMHSA's fiscal year report include actual results of performance monitoring for the three preceding fiscal years. The additional information collected through this process will allow SAMHSA to: (1) Report results of these performance outcomes; (2) maintain consistency with SAMHSA-specific performance domains, and (3) assess the accountability and performance of its discretionary grant programs including a focus on health equity.

In revising the CSAT-GPRA tool, CSAT sought to improve functionality while also eliciting programmatic information that demonstrates impact at the client level. In this way, data from the revised GPRA tool can be used to assess resource allocation and to delineate who we serve, how we serve them, and how the program impacts clients from entry to discharge. The tool reflects CSAT's desire to elicit pertinent client and program level data that can be used to not only guide future programs and practice, but to also respond to stakeholder, congressional and agency enquiries.

Table 1—Estimates of Annualized Hour Burden
SAMHSA tool | Number of respondents | Responses per respondent | Total number of responses | Burden hours per response | Total burden hours | Hourly wage ¹ | Total hour cost
Baseline Interview Includes SBIRT Brief TX, Referral to TX, and Program-specific questions | 179,668 | 1 | 179,668 | 0.6 | 107,801 | $24.78 | $2,671,309
Follow-Up Interview with Program-specific questions ² | 143,734 | 1 | 143,734 | 0.6 | 86,240 | 24.78 | 2,137,027
Discharge Interview with Program-specific questions ³ | 93,427 | 1 | 93,427 | 0.6 | 56,056 | 24.78 | 1,389,068
SBIRT Program—Screening Only | 594,192 | 1 | 594,192 | 0.13 | 77,245 | 24.78 | 1,914,131
SBIRT Program—Brief Intervention Only Baseline | 111,411 | 1 | 111,411 | 0.2 | 22,282 | 24.78 | 552,148
SBIRT Program—Brief Intervention Only Follow-Up ² | 89,129 | 1 | 89,129 | 0.2 | 17,826 | 24.78 | 441,728
SBIRT Program—Brief Intervention Only Discharge ³ | 57,934 | 1 | 57,934 | 0.2 | 11,587 | 24.78 | 287,126
CSAT Total | 1,269,495 |  | 1,269,495 |  | 379,037 |  | 9,392,537
¹ The hourly wage estimate is $21.23 based on the Occupational Employment and Wages, Mean Hourly Wage Rate for 21-1011 Substance Abuse and Behavioral Disorder Counselors = $24.78/hr. as of May 11, 2021. (http://www.bls.gov/oes/current/oes211011.htm. Accessed on May 11, 2021.)
² It is estimated that 80% of baseline clients will complete this interview.
³ It is estimated that 52% of baseline clients will complete this interview.
Note: Numbers may not add to the totals due to rounding and some individual participants completing more than one form.

Send comments to Carlos D. Graham, SAMHSA Reports Clearance Officer, 5600 Fishers Lane, Room 15E57-A, Rockville, Maryland 20857, OR email a copy to Carlos.Graham@samhsa.hhs.gov. Written comments should be received by October 1, 2021.

Carlos Graham,
Social Science Analyst.

[FR Doc. 2021-16405 Filed 7-30-21; 8:45 am]

BILLING CODE 4162-20-P